NUCLEAR REGULATORY COMMISSION

[NRC-2023-0195]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by December 28, 2023. A request for a hearing or petitions for leave to intervene must be filed by January 29, 2024. This monthly notice includes all amendments issued, or proposed to be issued, from October 13, 2023, to November 8, 2023. The last monthly notice was published on October 31, 2023.

ADDRESSES: You may submit comments by any of the following methods; however, the NRC encourages electronic comment submission through the Federal rulemaking website:

• Federal rulemaking website: Go to https://www.regulations.gov and search for Docket ID NRC-2023-0195. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Shirley Rohrer, Office of Nuclear Reactor Regulation, U.S. Nuclear Regulatory Commission, Washington, DC 20555-0001, telephone: 301-415-5411; email: Shirley.Rohrer@nrc.gov.

SUPPLEMENTARY INFORMATION:

I. Obtaining Information and Submitting Comments

A. Obtaining Information

Please refer to Docket ID NRC-2023-0195, facility name, unit number(s), docket number(s), application date, and subject when contacting the NRC about the availability of information for this action. You may obtain publicly available information related to this action by any of the following methods:

• Federal Rulemaking Website: Go to https://www.regulations.gov and search for Docket ID NRC-2023-0195.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2023-0195, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Constellation Energy Generation, LLC; Braidwood Station, Units 1 and 2, Will County, IL; Byron Station, Units 1 and 2, Ogle County, IL
Docket No(s) | 50-454, 50-455, 50-456, 50-457.
Application date | September 29, 2023.
ADAMS Accession No | ML23272A201.
Location in Application of NSHC | Pages 50-52 of Attachment 1.
Brief Description of Amendment(s) | The proposed amendments would revise the Byron and Braidwood (1) Technical Specification (TS) 3.7.15 to increase the required spent fuel pool boron concentration to be greater or equal to 2000 parts per million; (2) TS 3.7.16 to update Figure 3.7.1.16-1 to include fuel from Framatome and Westinghouse; (3) TS 4.3.1.b to update the description and references; and (4) TS 4.3.1.c and d (Braidwood only) to update the description and references.
Proposed Determination | NSHC.
Name of Attorney for Licensee, Mailing Address | Jason Zorn, Associate General Counsel, Constellation Energy Generation, 4300 Winfield Road, Warrenville, IL 60555.
NRC Project Manager, Telephone Number | Joel Wiebe, 301-415-6606.
Duke Energy Progress, LLC; H. B. Robinson Steam Electric Plant, Unit No. 2; Darlington County, SC
Docket No(s) | 50-261.
Application date | October 5, 2023.
ADAMS Accession No | ML23278A247.
Location in Application of NSHC | Pages 6-7 of the Enclosure.
Brief Description of Amendment(s) | The proposed amendment would revise Technical Specification (TS) Section 5.7, “High Radiation Area,” consistent with NRC-approved TS Task Force (TSTF) Traveler 258 (TSTF-258-A), Revision 4, “Changes to Section 5.0, Administrative Controls.”
Proposed Determination | NSHC.
Name of Attorney for Licensee, Mailing Address | Tracey Mitchell LeRoy, Deputy General Counsel, Duke Energy Corporation, 4720 Piedmont Row Dr., Charlotte, NC 28210.
NRC Project Manager, Telephone Number | Luke Haeg, 301-415-0272.
Nebraska Public Power District; Cooper Nuclear Station; Nemaha County, NE
Docket No(s) | 50-298.
Application date | September 6, 2023.
ADAMS Accession No | ML23249A134.
Location in Application of NSHC | Pages 15-17 of Attachment 1.
Brief Description of Amendment(s) | The proposed amendment would revise Cooper Nuclear Station Technical Specification (TS) Section 3.8.3, “Diesel Fuel Oil, Lube Oil, and Starting Air,” to allow the use of temporary fuel oil storage tanks to supplement the required fuel oil storage inventory used by the emergency diesel generators. The proposed TS change would be applicable during the 2024 Refueling Outage 33 while in Modes 4 or 5 to allow cleaning, inspection, and any needed repairs of the permanent diesel generator fuel oil storage tanks.
Proposed Determination | NSHC.
Name of Attorney for Licensee, Mailing Address | John C. McClure, Vice President, Governmental Affairs & General Counsel Nebraska Public Power District, P.O. Box 499, Columbus, NE 68601.
NRC Project Manager, Telephone Number | Thomas Wengert, 301-415-4037.
Pacific Gas and Electric Company; Diablo Canyon Power Plant, Units 1 and 2; San Luis Obispo County, CA
Docket No(s) | 50-275, 50-323.
Application date | September 27, 2023.
ADAMS Accession No | ML23270B909.
Location in Application of NSHC | Pages 15 to 17 of the Enclosure.
Brief Description of Amendment(s) | The proposed amendments would permit Diablo Canyon Power Plant, Units 1 and 2, to adopt 10 CFR 50.69, “Risk-Informed Categorization and Treatment of Structures, Systems and Components for Nuclear Power Reactors.”
Proposed Determination | NSHC.
Name of Attorney for Licensee, Mailing Address | Jennifer Post, Esq., Pacific Gas and Electric Co., 77 Beale Street, Room 3065, Mail Code B30A, San Francisco, CA 94105.
NRC Project Manager, Telephone Number | Samson Lee, 301-415-3168.
Tennessee Valley Authority; Sequoyah Nuclear Plant, Units 1 and 2; Hamilton County, TN; Tennessee Valley Authority; Watts Bar Nuclear Plant, Units 1 and 2; Rhea County, TN
Docket No(s) | 50-327, 50-328, 50-390, 50-391.
Application date | August 2, 2023, as supplemented by letter(s) dated September 20, 2023.
ADAMS Accession No | ML23214A385, ML23264A006.
Location in Application of NSHC | Enclosure 1 of the Supplement dated September 20, 2023.
Brief Description of Amendment(s) | On September 5, 2023, the NRC staff published a proposed no significant hazards consideration (NSHC) determination in the Federal Register (88 FR 60714) for the proposed amendments. Subsequently, by letter dated September 20, 2023, the licensee clarified the NSHC of the August 2, 2023, amendment request as originally noticed in the Federal Register. The clarified NSHC is Enclosure 1 to the September 20, 2023, letter.
Proposed Determination | NSHC.
Name of Attorney for Licensee, Mailing Address | David Fountain, Executive VP and General Counsel, Tennessee Valley Authority, 6A West Tower, 400 West Summit Hill Drive, Knoxville, TN 37902.
NRC Project Manager, Telephone Number | Perry Buckberg, 301-415-1383.
Vistra Operations Company LLC; Comanche Peak Nuclear Power Plant, Unit Nos. 1 and 2; Somervell County, TX
Docket No(s) | 50-445, 50-446.
Application date | September 14, 2023.
ADAMS Accession No | ML23257A172.
Location in Application of NSHC | Pages 30-32 of the Enclosure.
Brief Description of Amendment(s) | The proposed amendments would modify the Comanche Peak Nuclear Power Plant, Unit Nos. 1 and 2, Technical Specification Required Action 3.8.1.B.4 to extend the allowed outage time for an inoperable emergency diesel generator from 72 hours to 14 days.
Proposed Determination | NSHC.
Name of Attorney for Licensee, Mailing Address | Timothy P. Matthews, Esq., Morgan, Lewis and Bockius, 1111 Pennsylvania Avenue NW, Washington, DC 20004.
NRC Project Manager, Telephone Number | Dennis Galvin, 301-415-6256.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
Duke Energy Carolinas, LLC; Catawba Nuclear Station, Units 1 and 2; York County, SC; Duke Energy Carolinas, LLC; McGuire Nuclear Station, Units 1 and 2; Mecklenburg County, NC; Duke Energy Carolinas, LLC; Oconee Nuclear Station, Units 1, 2, and 3; Oconee County, SC; Duke Energy Progress, LLC; H. B. Robinson Steam Electric Plant, Unit No. 2; Darlington County, SC; Duke Energy Progress, LLC; Shearon Harris Nuclear Power Plant, Unit 1; Wake and Chatham Counties, NC
Docket No(s) | 50-413, 50-414, 50-369, 50-370, 50-269, 50-270, 50-287, 50-261, 50-400.
Amendment Date | October 24, 2023.
ADAMS Accession No | ML23241A987.
Amendment No(s) | Catawba 318 (Unit 1), 314 (Unit 2), Harris 200 (Unit 1), McGuire 329 (Unit 1), 308 (Unit 2), Oconee 429 (Unit 1), 431 (Unit 2), 430 (Unit 3), Robinson 278 (Unit 2).
Brief Description of Amendment(s) | The amendments revised surveillance requirements for reactor coolant system pressure isolation valve operational leakage testing and removed restrictive surveillance frequencies related to the reactor trip system instrumentation.
Public Comments Received as to Proposed NSHC (Yes/No) | No.
Southern Nuclear Operating Company, Inc.; Joseph M. Farley Nuclear Plant, Units 1 and 2; Houston County, AL; Southern Nuclear Operating Company, Inc.; Vogtle Electric Generating Plant, Units 1 and 2; Burke County, GA
Docket No(s) | 50-348, 50-364, 50-424, 50-425.
Amendment Date | October 23, 2023.
ADAMS Accession No | ML23187A148.
Amendment No(s) | Farley 248 (Unit 1), 245 (Unit 2); Vogtle 222 (Unit 1), 205 (Unit 2).
Brief Description of Amendment(s) | The amendments revised Technical Specification (TS) 3.2.1, “Heat Flux Hot Channel Factor (FQ(Z)),” to adopt the TS changes for the Relaxed Axial Offset Control (RAOC) methodology described in Appendix A of Westinghouse topical report WCAP-17661-P-A, Revision 1, “Improved RAOC and CAOC [Constant Axial Offset Control] FQ Surveillance Technical Specifications” (ML19225C081), to address the issues identified in Westinghouse Nuclear Safety Advisory Letter (NSAL)-09-5, Revision 1, “Relaxed Axial Offset Control FQ Technical Specification Actions,” dated September 23, 2009, and NSAL-15-1, “Heat Flux Hot Channel Factor Technical Specification Surveillance,” dated February 3, 2015. The amendments include adoption of several technical specification task force (TSTF) change travelers to align the Vogtle, Units 1 and 2, and Farley, Units 1 and 2, TSs with the FQ formulations and required actions of TS 3.2.1B, “Heat Flux Hot Channel Factor (FQ(Z)) (RAOC-W(Z) Methodology),” of NUREG-1431, “Standard Technical Specifications Westinghouse Plants,” Volume 1, Revision 5 (ML21259A155). The TSTFs are (1) TSTF-99-A, Revision 0, “Extend the Completion Time for Fq(w) not within limits from 2 hours to 4 hours;” (ML040480063); (2) TSTF-241-A, Revision 4, “Allow time for stabilization after reducing power due to QPTR [quadrant power tilt ratio] out of limit;” (ML040611034); and (3) TSTF-290-A, Revision 0, “Revisions to hot channel factor specifications,” (ML040630063). Additionally, the amendments revised the Vogtle, Units 1 and 2, and Farley, Units 1 and 2, TS 5.6.5, “Core Operating Limits Report (COLR),” to include WCAP-17661-P-A, Revision 1, in the list of the NRC approved methodologies used to develop the cycle specific COLR.
Public Comments Received as to Proposed NSHC (Yes/No) | No.
Southern Nuclear Operating Company, Inc.; Vogtle Electric Generating Plant, Units 1 and 2; Burke County, GA
Docket No(s) | 50-424, 50-425.
Amendment Date | October 12, 2023.
ADAMS Accession No | ML23263A985.
Amendment No(s) | 221 (Unit 1), 205 (Unit 2).
Brief Description of Amendment(s) | The amendments revised Technical Specification 5.5.11, “Ventilation Filter Testing Program (VFTP).” Specifically, the amendments revised the acceptance criteria for the charcoal absorber penetration for the Control Room Emergency Filtration System item number 5.5.11.c from 0.2-percent to 0.5-percent.
Public Comments Received as to Proposed NSHC (Yes/No) | No.
Southern Nuclear Operating Company, Inc.; Vogtle Electric Generating Plant, Units 3 and 4; Burke County, GA
Docket No(s) | 52-025, 52-026.
Amendment Date | November 7, 2023.
ADAMS Accession No | ML23268A057.
Amendment No(s) | 194 (Unit 3), 191 (Unit 4).
Brief Description of Amendment(s) | The amendments relocated Technical Specification 3.7.9, “Spent Fuel Pool Makeup Water Sources,” to the Vogtle Technical Requirements Manual (TRM) as “UFSAR [Updated Final Safety Analysis Report] Standard Content,” which is controlled in accordance with 10 CFR 50.59, “Changes, tests and experiments.” The amendments also changed to plant-specific design control document Tier 2 information affected by the relocation.
Public Comments Received as to Proposed NSHC (Yes/No) | No.
STP Nuclear Operating Company; South Texas Project, Units 1 and 2; Matagorda County, TX
Docket No(s) | 50-498, 50-499.
Amendment Date | November 1, 2023.
ADAMS Accession No | ML23298A000.
Amendment No(s) | 226 (Unit 1) and 211 (Unit 2).
Brief Description of Amendment(s) | The NRC staff approved conforming administrative license amendments regarding the indirect transfer of the NRG South Texas LP 44-percent possession-only non-operating interests in South Texas Project (STP), Units 1 and 2, from NRG South Texas LP to Constellation Energy Generation, LLC. The amendments revised Renewed Facility Operating License Nos. NPF-76 and NPF-80 to reflect the renaming of NRG South Texas LP to Constellation South Texas, LLC.
Public Comments Received as to Proposed NSHC (Yes/No) | No.
Virginia Electric and Power Company; Surry Power Station, Unit Nos. 1 and 2; Surry County, VA
Docket No(s) | 50-280, 50-281.
Amendment Date | November 2, 2023.
ADAMS Accession No | ML23200A262.
Amendment No(s) | 314 (Unit 1), 314 (Unit 2).
Brief Description of Amendment(s) | The amendments revised the following technical specifications (TSs), as part of a criticality safety analysis for fuel assembly storage in the Surry Power Station, Units 1 and 2, spent fuel pool storage racks and new fuel storage racks; TS 5.3.1.1, Spent Fuel Pool Storage Racks; TS 5.3.1.2, New Fuel Storage Racks; TS 5.3.1.3, Two Region Spent Fuel Pool Layout; and adds new Figure 5.3-1, New Fuel Storage Racks Empty Cells, and Figure 5.3-2, Region 1 Burnup Curve.
Public Comments Received as to Proposed NSHC (Yes/No) | Yes.
Virginia Electric and Power Company; Surry Power Station, Unit Nos. 1 and 2; Surry County, VA
Docket No(s) | 50-280, 50-281.
Amendment Date | November 7, 2023.
ADAMS Accession No | ML23242A229.
Amendment No(s) | 315 (Unit 1); 315 (Unit 2).
Brief Description of Amendment(s) | The amendments revised the Surry Emergency Plan to allow the relocation of the Technical Support Center from its current location, adjacent to the Main Control Room, to a building that was used previously as the Local Emergency Operations Facility.
Public Comments Received as to Proposed NSHC (Yes/No) | No.

IV. Notice of Issuance of Amendments to Facility Operating Licenses and Combined Licenses and Final Determination of No Significant Hazards Consideration and Opportunity for a Hearing (Exigent Circumstances or Emergency Situation)

Since publication of the last monthly notice, the Commission has issued the following amendment. The Commission has determined for this amendment that the application for the amendment complies with the standards and requirements of the Atomic Energy Act of 1954, as amended (the Act), and the Commission's rules and regulations. The Commission has made appropriate findings as required by the Act and the Commission's rules and regulations in 10 CFR, chapter I, which are set forth in the license amendment.

Because of exigent circumstances or emergency situation associated with the date the amendment was needed, there was not time for the Commission to publish, for public comment before issuance, its usual notice of consideration of issuance of amendment, proposed NSHC determination, and opportunity for a hearing.

For exigent circumstances, the Commission has either issued a Federal Register notice providing opportunity for public comment or has used local media to provide notice to the public in the area surrounding a licensee's facility of the licensee's application and of the Commission's proposed determination of NSHC. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its NSHC determination. In such case, the license amendment has been issued without opportunity for comment prior to issuance. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that NSHC is involved.

The Commission has applied the standards of 10 CFR 50.92 and has made a final determination that the amendments involve NSHC. The basis for this determination is contained in the documents related to each action. Accordingly, the amendment has been issued and made effective as indicated. For those amendments that have not been previously noticed in the Federal Register, within 60 days after the date of publication of this notice, any persons (petitioner) whose interest may be affected by this action may file a request for a hearing and petition for leave to intervene (petition) with respect to the action. Petitions shall be filed in accordance with the guidance concerning the Commission's “Agency Rules of Practice and Procedure” in 10 CFR part 2 as discussed in section II.A of this document.

Unless otherwise indicated, the Commission has determined that the amendment satisfies the criteria for categorical exclusion in accordance with 10 CFR 51.22. Therefore, pursuant to 10 CFR 51.22(b), no environmental impact statement or environmental assessment need be prepared for this amendment. If the Commission has prepared an environmental assessment under the special circumstances provision in 10 CFR 51.12(b) and has made a determination based on that assessment, it is so indicated in the safety evaluation for the amendment.

For further details with respect to these actions, see the amendment and associated documents such as the Commission's letter and safety evaluation, which may be obtained using the ADAMS accession numbers indicated in the following table. The safety evaluation will provide the ADAMS accession number(s) for the application for amendment and the Federal Register citation for any environmental assessment. All of these items can be accessed as described in the “Obtaining Information and Submitting Comments” section of this document.

License Amendment Issuance(s)—Exigent/Emergency Circumstances
DTE Electric Company; Fermi, Unit 2; Monroe County, MI
Docket No(s) | 50-341.
Amendment Date | October 30, 2023.
ADAMS Accession No | ML23297A051.
Amendment No(s) | 226.
Brief Description of Amendment(s) | This exigent amendment revised Technical Specification (TS) 3.8.1, “AC [alternating current] Sources—Operating,” to allow for a one-time extension of the Required Action B.4 Completion Time, from 72 hours to 7 days, to perform online repairs of Division I Mechanical Draft Cooling Tower A and C fan pedestals. In addition, the amendment also approved an editorial correction to the one-time footnote on TS 3.7.2, “Emergency Equipment Cooling water (EECW)/Emergency Equipment service Water (EESW) System and Ultimate Heat sink (UHS).” The temporary one-time extension will expire at 11:59 pm on November 19, 2023.
Local Media Notice (Yes/No) | No.
Public Comments Requested as to Proposed NSHC (Yes/No) | No.

V. Previously Published Notice of Consideration of Issuance of Amendments to Facility Operating Licenses and Combined Licenses, Proposed No Significant Hazards Consideration Determination, and Opportunity for a Hearing

The following notice was previously published as separate individual notice. It was published as an individual notice either because time did not allow the Commission to wait for this monthly notice or because the action involved exigent circumstances. It is repeated here because the monthly notice lists all amendments issued or proposed to be issued involving NSHC.

For details, including the applicable notice period, see the individual notice in the Federal Register on the day and page cited.

License Amendment Request(s)—Repeat of Individual Federal Register Notice
Wolf Creek Nuclear Operating Corporation; Wolf Creek Generating Station, Unit 1; Coffey County, KS
Docket No(s) | 50-482.
Application Date | October 19, 2023.
ADAMS Accession No | ML23292A359.
Brief Description of Amendment(s) | The proposed amendment would modify the implementation date of License Amendment No. 237 for Wolf Creek Generating Station, Unit 1. Amendment No. 237 allows the use of hard hat mounted portable lights.
Date & Cite of Federal Register Individual Notice | October 26, 2023; 88 FR 73628.
Expiration Dates for Public Comments & Hearing Requests | November 27, 2023 (comments); December 26, 2023 (hearing requests).

Dated: November 16, 2023.
For the Nuclear Regulatory Commission.
Jamie M. Heisserer,
Deputy Director, Division of Operating Reactor Licensing, Office of Nuclear Reactor Regulation.

[FR Doc. 2023-25746 Filed 11-27-23; 8:45 am]

BILLING CODE 7590-01-P